DEPARTMENT OF HOMELAND SECURITY

[Docket No. DHS-2013-0023]

Statewide Communication Interoperability Plan Template and Annual Progress Report

AGENCY: National Protection and Programs Directorate, DHS.

ACTION: 60-day notice and request for comments; New Information Collection Request: 1670-0017.

SUMMARY: The Department of Homeland Security (DHS), National Protection and Programs Directorate (NPPD), Office of Cybersecurity and Communications (CS&C), Office of Emergency Communications (OEC), will submit the following Information Collection Request to the Office of Management and Budget (OMB) for review and clearance in accordance with the Paperwork Reduction Act of 1995 (Pub. L. 104-13, 44 U.S.C. Chapter 35).

DATES: Comments are encouraged and will be accepted until October 15, 2013. This process is conducted in accordance with 5 CFR 1320.1.

ADDRESSES: Written comments and questions about this Information Collection Request should be forwarded to DHS/NPPD/CS&C/OEC, 245 Murray Lane SW., Mail Stop 0640, Arlington, VA 20598-0640. Emailed requests should go to Serena Maxey, serena.maxey@hq.dhs.gov. Written comments should reach the contact person listed no later than October 15, 2013. Comments must be identified by “DHS-2013-0023” and may be submitted by one of the following methods:

• Federal eRulemaking Portal: http://www.regulations.gov.

• Email: Include the docket number in the subject line of the message.

Instructions: All submissions received must include the words “Department of Homeland Security” and the docket number for this action. Comments received will be posted without alteration at http://www.regulations.gov, including any personal information provided.

SUPPLEMENTARY INFORMATION: The Department of Homeland Security, Office of Emergency Communications (OEC), formed under Title XVIII of the Homeland Security Act of 2002, 6 U.S.C. 571 et seq., is required, pursuant to 6 U.S.C. 572, to develop the National Emergency Communications Plan (NECP), which includes identification of goals, timeframes, and appropriate measures to achieve interoperable communications capabilities. In 2010, the Statewide Communication Interoperability Plan (SCIP) Implementation Report was cleared in accordance with the Paperwork Reduction Act of 1995 and will expire in September of 2013. The SCIP Template and Annual Progress Report will replace the previous SCIP Template and SCIP Implementation Report. These updated documents (SCIP Template and Annual Progress Report) streamline the information collected by OEC to track the progress states are making in implementing milestones and demonstrating goals of the NECP. The process for completing the SCIP Template and Annual Progress Report will not change.

The SCIP Template and Annual Progress Report will assist states in their strategic planning for interoperable and emergency communications while demonstrating each state's achievements and challenges in accomplishing optimal interoperability for emergency responders. In addition, certain government grants may require states to update their SCIP Templates and Annual Progress Reports to include broadband efforts in order to receive funding for interoperable and emergency communications. Statewide Interoperability Coordinators (SWICs) will be responsible for the development and incorporation of input from their respective stakeholders and governance bodies into their SCIP Template and Annual Progress Report. SWICs will complete and submit the reports directly to OEC through unclassified electronic submission.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Cybersecurity and Communications, Office of Emergency Communications.

Title: Statewide Communication Interoperability Plan Template and Annual Progress Report.

OMB Number: 1670-0017.

Frequency: Annually.

Affected Public: Statewide Interoperability Coordinators.

Number of Respondents: 56 respondents.

Estimated Time per Respondent: 10 hours.

Total Burden Hours: 560 annual burden hours.

Total Burden Cost (capital/startup): $0.

Total Recordkeeping Burden: $0.

Total Burden Cost (operating/maintaining): $28,918.40.

Dated: August 12, 2013.
Scott Libby,
Deputy Chief Information Officer, National Protection and Programs Directorate, Department of Homeland Security.

[FR Doc. 2013-20025 Filed 8-15-13; 8:45 am]

BILLING CODE 9910-9P-P